DEPARTMENT OF HOMELAND SECURITY

Coast Guard

33 CFR Part 165

[Docket No. USCG-2010-0846]

RIN 1625-AA87

Security Zone, in the Vicinity of the Michoud Slip Position 30°0′34.2″ N, 89°55′40.7″ W to Position 30°0′29.5″ N, 89°55′52.6″ W

AGENCY: Coast Guard, DHS.

ACTION: Temporary final rule.

SUMMARY: The Captain of the Port of New Orleans, under the authority of the Magnuson Act, 33 CFR 165.30 and 165.33, has established a security zone in the vicinity of the Michoud Slip encompassing the entire slip from position 30°0′34.2″ N, 89°55′40.7″ W to position 30°0′29.5″ N, 89°55′52.6″ W across the mouth of the slip. Vessels will not be allowed to enter this security zone without the permission of the Captain of the Port, New Orleans. This security zone is necessary to protect the Deepwater Horizon blowout preventer and adjacent piers and infrastructure from destruction, loss or injury from sabotage or other subversive acts, accidents or other causes of a similar nature.

DATES: This rule is effective in the CFR from October 22, 2010 through December, 31, 2010. This rule is effective with actual notice for purposes of enforcement from September 11, 2010, at 12 noon, through December 31, 2010.

ADDRESSES: Documents indicated in this preamble as being available in the docket are part of docket USCG-2010-0846 and are available online by going to http://www.regulations.gov, inserting USCG-2010-0846 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Lieutenant Commander (LCDR) Eva VanCamp, Sector New Orleans, Coast Guard; telephone 504-365-2392, e-mail Eva.VanCamp@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because it would be impracticable and contrary to public interest to delay the rule. Immediate action is necessary to protect the Deepwater Horizon blowout preventer and adjacent piers and infrastructure from destruction, loss or injury from sabotage or other subversive acts, accidents or other causes of a similar nature.

Under 5 U.S.C. 553(d)(3), the Coast Guard finds that good cause exists for making this rule effective less than 30 days after publication in the Federal Register. This security zone is needed to protect the Deepwater Horizon blowout preventer and adjacent piers and infrastructure from destruction, loss or injury from sabotage or other subversive acts, accidents or other causes of a similar nature. Additional notice is impracticable and contrary to public interest.

Basis and Purpose

An investigation associated with the Deepwater Horizon incident is currently taking place in the vicinity of Michoud Slip. A security zone has been established encompassing the entire slip from position 30°0′34.2″ N, 89°55′40.7″ W to position 30°0′29.5″ N, 89°55′52.6″ W across the mouth of the slip. Vessels will not be allowed to enter this security zone without the permission of the Captain of the Port, New Orleans. This security zone is necessary to protect the Deepwater Horizon blowout preventer and adjacent piers and infrastructure from destruction, loss or injury from sabotage or other subversive acts, accidents or other causes of a similar nature.

Discussion of Rule

The Coast Guard has established several safety and security zones in South Louisiana to protect vessels and facilities engaged in operations associated with the Deepwater Horizon incident. This security zone is in addition to those safety and security zones and adds additional requirements which are needed to ensure the safety of evidence needed for the investigation of the incident. This security zone is necessary to protect the Deepwater Horizon blowout preventer and adjacent piers and infrastructure from destruction, loss or injury from sabotage or other subversive acts, accidents or other causes of a similar nature.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

It is not “significant” under the regulatory policies and procedures of the Department of Homeland Security (DHS). Due to its location the impacts on routine navigation are expected to be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels, intending to transit in the vicinity of Michoud Slip, encompassing the entire slip from position 30°0′34.2″ N, 89°55′40.7″ W to position 30°0′29.5″ N, 89°55′52.6″ W across the mouth of the slip. This security zone will not have significant impact on a substantial number of small entities because of its location. If you are a small business entity and are significantly affected by this regulation please contact Lieutenant Commander (LCDR) Eva VanCamp, Sector New Orleans, at 504-365-2392, or e-mail Eva.VanCamp@uscg.mil.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(g), of the Instruction.

An environmental analysis checklist and a categorical exclusion determination will be uploaded to the docket where indicated under ADDRESSES.

List of Subjects in 33 CFR Part 165

Harbors, Marine safety, Navigation (water), Reporting and recordkeeping requirements, Security measures, Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1226, 1231; 46 U.S.C. Chapter 701; 50 U.S.C. 191, 195; 33 CFR 1.05-1(g), 6.06-1, 6.05-6 and 160.5; Pub. L. 107-295, 116 Stat. 2064; Department of Homeland Security Delegation No. 0170.1.

2. A new temporary § 165.T08-0846 is added to read as follows:

§ 165.T08-0846 Security Zone, in the Vicinity of the Michoud Slip.

(a) Location. The area in the vicinity of Michoud Slip, encompassing the entire slip from position 30°0′34.2″ N, 89°55′40.7″ W. to position 30°0′29.5″ N, 89°55′52.6″ W. across the mouth of the slip is a security zone.

(b) Enforcement period. This section will be enforced from September 11, 2010, at 12 noon, through December 31, 2010.

(c) Regulations. (1) In accordance with the general regulation in § 165.33 of this part, vessels are prohibited from transiting in the vicinity of Michoud Slip, encompassing the entire slip from position 30°0′34.2″ N, 89°55′40.7″ W. to position 30°0′29.5″ N, 89°55′52.6″ W. across the mouth of the slip.

(2) Persons or vessels requiring deviations from this rule must request permission from the Captain of the Port New Orleans. The Captain of the Port New Orleans may be contacted at telephone (504) 365-2543.

(3) All persons and vessels obtaining permission to enter the security zone established in paragraph (a) of this section must comply with the instructions of the Captain of the Port New Orleans and designated personnel. Designated personnel include commissioned, warrant and petty officers of the U.S. Coast Guard assigned to units under the operational control of USCG Sector New Orleans.

Dated: September 10, 2010.
E.M. Stanton,
Captain, U.S. Coast Guard, Captain of the Port New Orleans.

[FR Doc. 2010-26673 Filed 10-21-10; 8:45 am]

BILLING CODE 9110-04-P